Proclamation 9717 of March 30, 2018

National Sexual Assault Awareness and Prevention Month, 2018

By the President of the United States of America

A Proclamation

During National Sexual Assault Awareness and Prevention Month, we remain steadfast in our efforts to stop crimes of sexual violence, provide care for victims, enforce the law, prosecute offenders, and raise awareness about the many forms of sexual assault. We must continue our work to eliminate sexual assault from our society and promote safe relationships, homes, and communities.

Sexual assault crimes remain tragically common in our society, and offenders too often evade accountability. These heinous crimes are committed indiscriminately: in intimate relationships, in public spaces, and in the workplace.

We must respond to sexual assault by identifying and holding perpetrators accountable. Too often, however, the victims of assault remain silent. They may fear retribution from their offender, lack faith in the justice system, or have difficulty confronting the pain associated with the traumatic experience. My Administration is committed to raising awareness about sexual assault and to empowering victims to identify perpetrators so that they can be held accountable. We must make it as easy as possible for those who have suffered from sexual assault to alert the authorities and to speak about the experience with their family and friends.

When victims seek help, responses must be carefully tailored to the context in which the sexual assault occurred and the unique needs of each victim. To better assist victims, the Department of Justice's Office on Violence Against Women has developed the Sexual Assault Victim Intervention Services Technical Assistance Center (SAVIS TAC). This new resource will help community officials and organizations appropriately respond to sexual assault by expanding their understanding of the type of support likely to be effective in each unique circumstance. Participants in the SAVIS TAC initiative will use available funds to provide intensive training and resources to service providers. With these resources, service providers, including rape crisis centers and other sexual assault and domestic violence organizations can build organizational and staff capacity for providing comprehensive sexual assault victim intervention services.

Together, during Sexual Assault Awareness Month, we recommit ourselves to doing our part to help stop sexual violence. We must not be afraid to talk about sexual assualt and sexual assult prevention with our loved ones, in our communities, and with those who have experienced these tragedies. We must encourage victims to report sexual assault and law enforcement to hold offenders accountable, and we must support victims and survivors unremmittingly. Through a concerted effort to better educate ourselves, empower victims, and punish criminals, our Nation will move closer to ending the grief, fear, and suffering caused by sexual assult. The prevention of sexual violence is everyone's concern.

NOW, THEREFORE, I, DONALD J. TRUMP, President of the United States of America, by virtue of the authority vested in me by the Constitution and laws of the United States, do hereby proclaim April 2018 as National Sexual Assault Awareness and Prevention Month. I urge all Americans, families, law enforcement, healthcare providers, community and faith-based organizations, and private organizations to support survivors of sexual assault and work together to prevent these crimes in their communities.

IN WITNESS WHEREOF, I have hereunto set my hand this thirtieth day of March, in the year of our Lord two thousand eighteen, and of the Independence of the United States of America the two hundred and forty-second.

[FR Doc. 2018-07027

Filed 4-3-18; 11:15 am]

Billing code 3295-F8-P